DEPARTMENT OF THE INTERIOR

Fish and Wildlife Service

[FWS-R8-ES-2014-N104; FXES11130800000-145-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing recovery permits to conduct certain activities with endangered species.

DATES: Comments on these permit applications must be received on or before July 3, 2014.

ADDRESSES: Written data or comments should be submitted to the Endangered Species Program Manager, U.S. Fish and Wildlife Service, Region 8, 2800 Cottage Way, Room W-2606, Sacramento, CA 95825 (telephone: 916-414-6464; fax: 916-414-6486). Please refer to the applicant's name and affiliation for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). Permit numbers have not been assigned to the three applications for new permits. However, because of the time-sensitive nature of the surveys and research, we are proceeding to provide notice of these applications and solicit input from the public on these activities. We seek review and comment from local, State, and Federal agencies and the public on the following permit requests.

Applicants

Applicant: Mary H. Toothman, University of California, Santa Barbara, Satellite Amphibian Research Facility, Santa Barbara, California.

The applicant requests a permit to take (survey, capture, handle, mark, release, hold in captivity, and relocate) the mountain yellow-legged frog (northern California Distinct Population Segment (DPS)) (Rana muscosa) and Sierra Nevada yellow-legged frog (Rana sierrae) in conjunction with presence/absence surveys and research on the effects of chytridiomycosis, caused by the amphibian chytrid fungus (Batrachochytrium dendrobatidis) throughout the range of each species in California, for the purpose of enhancing the species' survival.

Applicant: Roland A. Knapp, University of California Sierra Nevada Aquatic Research Laboratory, Mammoth Lakes, California.

The applicant requests a permit to take (survey, capture, handle, mark, release, hold in captivity, and relocate) the mountain yellow-legged frog (northern California DPS) (Rana muscosa) and Sierra Nevada yellow-legged frog (Rana sierrae) in conjunction with presence/absence surveys and long-term surveillance of chytridiomycosis, caused by the amphibian chytrid fungus (Batrachochytrium dendrobatidis) throughout the range of each species in California, for the purpose of enhancing the species' survival.

Applicant: Cathy Brown, U.S. Forest Service, Pacific Southwest Research Station, Albany, California.

The applicant requests a permit to take (survey, capture, handle, mark, release, hold in captivity, and relocate) the mountain yellow-legged frog (northern California DPS) (Rana muscosa), Sierra Nevada yellow-legged frog (Rana sierrae), and Yosemite toad (Anaxyrus canorus) in conjunction with presence/absence and population surveys on U.S. Forest Service lands, for the purpose of enhancing the species' survival.

Permit No. TE-844852

Applicant: Patrick Kleeman, U.S. Geological Survey, Point Reyes Field Station, Point Reyes, California.

The applicant requests an amendment to a permit to take (survey, capture, handle, mark, release, hold in captivity, and relocate) the mountain yellow-legged frog (northern California DPS) (Rana muscosa), Sierra Nevada yellow-legged frog (Rana sierrae), and Yosemite toad (Anaxyrus canorus), in addition to the species already included on the permit in conjunction with presence/absence and population surveys throughout the range of each species in California, for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Dated: May 28, 2014.
Darrin Thome,
Acting Regional Director, Pacific Southwest Region, Sacramento, California.

[FR Doc. 2014-12839 Filed 6-2-14; 8:45 am]

BILLING CODE 4310-55-P